DEPARTMENT OF AGRICULTURE

Agricultural Marketing Service

[Docket AMS-FV-2006-0201; FV-06-314]

United States Standards for Grades of Parsley

AGENCY: Agricultural Marketing Service, USDA.

ACTION: Notice.

SUMMARY: The Agricultural Marketing Service (AMS) of the Department of Agriculture (USDA) is revising the voluntary United States Standards for Grades of Parsley. Specifically, AMS is revising the standards to allow percentages to be determined by count rather than weight. AMS is also eliminating the unclassified category. The revisions would bring the standards for parsley in line with current marketing practices, thereby improving the usefulness in serving the industry.

DATES: Effective Date: July 20, 2007.

FOR FURTHER INFORMATION CONTACT: Vincent J. Fusaro, Standardization Section, Fresh Products Branch; (202) 720-2185. The United States Standards for Grades of Parsley are available either through the address cited above or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA, AMS, Fruit and Vegetable Programs. AMS is revising the voluntary United States Standards for Grades of Parsley using procedures that appear in Part 36, Title 7 of the Code of Federal Regulations (7 CFR part 36). These standards were last published on July 30, 1930.

Background

Prior to undertaking research and other work associated with revision of the grade standards, AMS published a notice in the Federal Register (71 FR 41755) on July 24, 2006, soliciting comments on the possible revisions to the United States Standards for Grades of Parsley. A subsequent notice was published in the Federal Register (71 FR 77366-77367) on December 26, 2006, soliciting comments on allowing percentages to be determined by count rather than weight and eliminating the unclassified category. In response to this notice, AMS received one comment from an industry group representing receivers. The comment is available by accessing: http://www.regulations.gov/fdmspublic/component/main or AMS's Fresh Products Branch Web site at: http://www.ams.usda.gov/fv/fpbdocketlist.htm.

The commenter was in favor of the proposed revision to allow the percentages for tolerances and defects to be determined by count rather than weight.

AMS is eliminating the unclassified category from all standards as they are revised. This category is not a grade and only serves to show that no grade has been applied to the lot. It is no longer considered necessary.

Based on the comment received and the information gathered, AMS is revising the parsley standards to allow percentages for tolerances and defects to be determined by count rather than weight and will remove the unclassified category.

The official grade of a lot of parsley covered by these standards is determined by the procedures set forth in the Regulations Governing Inspection, Certification, and Standards of Fresh Fruits, Vegetables and Other Products (Sec. 51.1 to 51.61).

The revisions to the United States Standards for Grades of Parsley will become effective 30 days after publication of this notice in the Federal Register.

Authority: 7 U.S.C. 1621-1627.

Dated: June 14, 2007.
Lloyd C. Day,
Administrator, Agricultural Marketing Service.

[FR Doc. E7-11930 Filed 6-19-07; 8:45 am]

BILLING CODE 3410-02-P